DEPARTMENT OF TRANSPORTATION

Federal Highway Administration

MAP-21 Comprehensive Truck Size and Weight Limits Study Deadline for Submitting Comments for Consideration in the Report to Congress

AGENCY: Federal Highway Administration (FHWA); DOT.

ACTION: Notice of deadline for submitting comments.

SUMMARY: This notice announces a deadline for submitting comments to the U.S. Department of Transportation (DOT) for consideration as part of the Moving Ahead for Progress in the 21st Century Act (MAP-21) Comprehensive Truck Size and Weight Limits Study Report to Congress. On June 5, 2015, DOT released for public comment and peer review the technical results of a comprehensive study of certain safety, infrastructure, and efficiency issues surrounding the Federal truck size and weight limits and the potential impacts of changing those limits. The DOT is now preparing a Report to Congress to conclude this study.

DATES: Comments must be received on or before October 13, 2015 to receive full consideration by DOT with respect to the MAP-21 Comprehensive Truck Size and Weight Limits Study Report to Congress. The public docket will remain open for a limited timeframe after this date, however, comments received after October 13, 2015 will not be considered as part of the Report to Congress.

ADDRESSES: Comments on the Comprehensive Truck Size and Weight Limits Study may be submitted and viewed at Docket Number FHWA-2014-0035. The Web address is: http://www.regulations.gov/#!docketDetail;D=FHWA-2014-0035.

FOR FURTHER INFORMATION CONTACT: Email CTSWStudy@dot.gov, or contact; Edward Strocko, (202) 366-2997, ed.strocko@dot.gov; Office of Freight Management and Operations, Federal Highway Administration, Department of Transportation, 1200 New Jersey Ave. SE., Washington, DC 20590.

SUPPLEMENTARY INFORMATION:

Background

The MAP-21 (Pub. L. 112-141) requires DOT to conduct a Comprehensive Truck Size and Weight Limits Study (MAP-21 sec. 32801) addressing differences in safety risks, infrastructure impacts, and the effect on levels of enforcement between trucks operating at or within Federal truck size and weight limits and trucks legally operating in excess of Federal limits; comparing and contrasting the potential safety and infrastructure impacts of alternative configurations (including configurations that exceed current Federal truck size and weight limits) to the current Federal truck size and weight law and regulations; and, estimating the effects of freight diversion due to these alternative configurations. On June 5, 2015, DOT released for public comment and peer review the technical results of this comprehensive study. The DOT is now preparing a Report to Congress. Additional technical finding, presentations, and related documents can be found on FHWA's Truck Size and Weight Web site; at http://www.ops.fhwa.dot.gov/freight/sw/map21tswstudy/index.htm.

Public Comment

The DOT invites comments by all those interested in the MAP-21 Comprehensive Truck Size and Weight Limits Study. Comments on the Comprehensive Truck Size and Weight Limits Study may be submitted and viewed at Docket Number FHWA-2014-0035. The Web address is: http://www.regulations.gov/#!docketDetail;D=FHWA-2014-0035. Comments must be received on or before October 13, 2015, to receive full consideration by DOT in preparing the MAP-21 Comprehensive Truck Size and Weight Limits Study Report to Congress. The public docket will remain open for a limited period after this date. After October 13, 2015, comments will continue to be available for viewing by the public.

Issued on: September 2, 2015.
Jeffrey A. Lindley,
Associate Administrator for Operations.

[FR Doc. 2015-22873 Filed 9-9-15; 8:45 am]

BILLING CODE 4910-22-P